DEPARTMENT OF THE INTERIOR

National Park Service

[N6376; NPS-WASO-NAGPRA-NPS0040663; PPWOCRADN0-PCU00RP14.R50000]

Notice of Inventory Completion: U.S. Army Corps of Engineers, Omaha District, Omaha, NE, and the University of North Dakota, Grand Forks, ND

AGENCY: National Park Service, Interior.

ACTION: Notice.

SUMMARY: In accordance with the Native American Graves Protection and Repatriation Act (NAGPRA), the U.S. Army Corps of Engineers, Omaha District and the University of North Dakota have completed an inventory of human remains and associated funerary objects and have determined that there is a cultural affiliation between the human remains and associated funerary objects and Indian Tribes or Native Hawaiian organizations in this notice.

DATES: Repatriation of the human remains and associated funerary objects in this notice may occur on or after August 29, 2025.

ADDRESSES: Send written requests for repatriation of the human remains and associated funerary objects in this notice to Ms. Livia Taylor, U.S. Army Corps of Engineers, Omaha District, ATTN: CENWO-PMA-D, 1616 Capitol Avenue, Omaha, NE 68102, email Livia.A.Taylor@usace.army.mil and Dr. Crystal Alberts, University of North Dakota, 250 Centennial Drive, Stop 8193, Grand Forks, ND 58202, email und.nagpra@und.edu.

SUPPLEMENTARY INFORMATION: This notice is published as part of the National Park Service's administrative responsibilities under NAGPRA. The determinations in this notice are the sole responsibility of the Omaha District and the University of North Dakota, and additional information on the determinations in this notice, including the results of consultation, can be found in their inventory or related records. The National Park Service is not responsible for the determinations in this notice.

Abstract of Information Available

Based on information available, human remains of, at least, one individual has been reasonably identified, along with 5,023 associated funerary objects. They were removed from a site in Hughes County, South Dakota.

Based on information available, human remains of, at least, one individual has been reasonably identified, along with 123 associated funerary objects. They were removed from a site in Stanley County, South Dakota.

Based on information available, human remains of, at least, one individual has been reasonably identified, along with 5,963 associated funerary objects. They were removed from a site in Stanley County, South Dakota.

Based on information available, 10 associated funerary objects were removed from a site in Emmons County, North Dakota; four associated funerary objects were removed from a site in Campbell County, South Dakota; 14 associated funerary objects were removed from a site in Hughes County, South Dakota; 60 associated funerary objects were removed from a site in Hughes County, South Dakota; 21 associated funerary objects were removed from a site in Lyman County, South Dakota; 51 associated funerary objects were removed from a site in Lyman County, South Dakota; 81 associated funerary objects were removed from a site in Lyman County, South Dakota; one associated funerary object were removed from a site in Stanley County, South Dakota; 56 associated funerary objects were removed from a site in Stanley County, South Dakota; 131 associated funerary objects were removed from a site in Stanley County, South Dakota; 113 associated funerary objects were removed from a site in Stanley County, South Dakota; 16 associated funerary objects were removed from a site in Stanley County, South Dakota; and 14 associated funerary objects were removed from a site in Walworth County, South Dakota.

The Omaha District and UND have no record of any potentially hazardous substances being used to treat the Ancestors or associated funerary objects described in this notice.

Based upon a preponderance of the evidence, including Tribal oral history, archeological and geographical information, the Ancestors and associated funerary objects described in this Notice are consistent with cultural affiliation of the Three Affiliated Tribes of the Fort Berthold Reservation, North Dakota.

Cultural Affiliation

Based on the information available and the results of consultation, cultural affiliation is clearly identified by the information available about the human remains and associated funerary objects described in this notice.

Determinations

The U.S. Army Corps of Engineers, Omaha District and the University of North Dakota have determined that:

• The human remains described in this notice represent the physical remains of a minimum of three individuals of Native American ancestry.

• The 11,681 objects described in this notice are reasonably believed to have been placed intentionally with or near individual human remains at the time of death or later as part of the death rite or ceremony.

• There is a connection between the human remains and associated funerary objects described in this notice and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 29, 2025. If competing requests for repatriation are received, the U.S. Army Corps of Engineers, Omaha District and the University of North Dakota must determine the most appropriate requestor prior to repatriation. Requests for joint repatriation of the human remains and associated funerary objects are considered a single request and not competing requests. The U.S. Army Corps of Engineers, Omaha District and the University of North Dakota are responsible for sending a copy of this notice to the Indian Tribes and Native Hawaiian organizations identified in this notice.

Authority: Native American Graves Protection and Repatriation Act, 25 U.S.C. 3003, and the implementing regulations, 43 CFR 10.10.

Dated: July 15, 2025.
Mariah Soriano,
Acting Manager, National NAGPRA Program.

[FR Doc. 2025-14374 Filed 7-29-25; 8:45 am]

BILLING CODE 4312-52-P